DEPARTMENT OF TRANSPORTATION

Federal Aviation Administration

Noise Exposure Map Notice for Charlotte Douglas International Airport (CLT), Charlotte, NC

AGENCY: Federal Aviation Administration, DOT.

ACTION: Notice.

SUMMARY: The Federal Aviation Administration (FAA) announces its determination that the Noise Exposure Maps (NEMs) submitted by the City of Charlotte for Charlotte Douglas International Airport under the provisions of 49 U.S.C. 47501 et seq. (Aviation Safety and Noise Abatement Act (hereinafter referred to as “the Act”)) and 14 CFR part 150 (hereinafter referred to as “Part 150”) are in compliance with applicable requirements.

DATES: Effective Date: The effective date of the FAA's compliance determination on the NEMs is April 12, 2016.

FOR FURTHER INFORMATION CONTACT: Aaron Braswell, Federal Aviation Administration, Memphis Airports District Office, 2600 Thousand Oaks Blvd., Suite 2250, Memphis, TN 38118, 901-322-8192.

SUPPLEMENTARY INFORMATION: This notice announces that the FAA finds that the NEMs submitted for the Charlotte Douglas International Airport Airport (CLT) are in compliance with applicable requirements of Part 150, effective April 12, 2016. Under the Act, an airport operator (hereinafter referred to as “Sponsor”) may submit to the FAA NEMs which meet applicable regulations and which depict non-compatible land uses as of the date of submission of such maps, a description of projected aircraft operations, and the ways in which such operations will affect such maps. The Act requires that the Sponsor develop its NEMs in consultation with interested and affected parties in the local community, government agencies, and persons using the airport. The FAA has relied on the certification by the City of Charlotte, under § 150.21 of Part 150, that the statutorily required consultation has been accomplished.

An airport Sponsor who has submitted NEMs that are found by the FAA to be in compliance with the requirements of Part 150 may submit a Noise Compatibility Program (NCP) for FAA approval which sets forth the measures the Sponsor has taken or proposes to take to reduce existing non-compatible uses and prevent the introduction of additional non-compatible uses.

The FAA has completed its review of the NEMs and accompanying documentation submitted by City of Charlotte. The documentation that constitutes the “NEMs” as defined in § 150.7 of Part 150 includes: Exhibit 3-1, Existing (2015) Noise Contour; Exhibit 4-1, Future (2020) Noise Contour; Exhibit C-11, Runway 18L Flight Tracks; Exhibit C-12, Runway 18C Flight Tracks; Exhibit C-13, Runway 18R Flight Tracks; Exhibit C-14, Runway 36R Flight Tracks; Exhibit C-15, Runway 36C Flight Tracks; Exhibit C-16, Runway 36L Flight Tracks; Exhibit C-17, Runway 05 Flight Tracks; Exhibit C-18, Runway 23 Flight Tracks; Exhibit C-19, Helicopter Flight Tracks; Table C-1, Distribution of Average Daily Operations by Aircraft Category Existing (2015) Conditions; Table C-2, Runway End Utilization—Existing (2015) Conditions; Table C-3, Arrival Flight Track Utilization Percentages Existing (2015) and Future (2020) Conditions; Table C-4, Departure Flight Track Utilization Percentages Existing (2015) and Future (2020) Conditions; Table C-5, Departure Trip Length Distribution Existing (2015) Conditions; Table C-6, Aircraft Engine Run-Ups—Existing (2015) Conditions; Table C-7, Distribution of Average Daily Operations by Aircraft Type Future (2020) Conditions; Table C-8, Departure Trip Length Distribution—Future (2020) Conditions; Table C-9, Ground Run-Up Operations—Future (2020) Conditions; Appendix F. The FAA has determined that these NEMs and accompanying documentation are in compliance with applicable requirements. This determination is effective on April 12, 2016.

FAA's determination on the airport Sponsor's NEMs is limited to a finding that the maps were developed in accordance with the procedures contained in Appendix A of Part 150. Such determination does not constitute approval of the Sponsor's data, information, or plans, and is not a commitment to approve a NCP or to fund the implementation of that Program. If questions arise concerning the precise relationship of specific properties to noise exposure contours depicted on a NEM submitted under § 47503 of the Act, it is emphasized that the FAA is not involved in any way in determining the relative locations of specific properties with regard to the depicted noise exposure contours, or in interpreting the NEMs to resolve questions concerning, for example, which properties should be covered by the provisions of § 47506 of the Act. These functions are inseparable from the ultimate land use control and planning responsibilities of local government and remain unchanged by FAA's NEM compliance determination under Part 150. The responsibility for the detailed overlaying of noise exposure contours onto the map depicting properties on the surface rests exclusively with the airport Sponsor that submitted those maps, or with those public agencies and planning agencies with which consultation is required under § 47503 of the Act.

Copies of the full NEM documentation are available for examination by appointment at the following locations:

Federal Aviation Administration, Memphis Airports District Office, 2600 Thousand Oaks Blvd., Suite 2250, Memphis, TN 38118.

Federal Aviation Administration, Airports Southern Region Office, 1701 Columbia Ave., Suite 540, College Park, GA 30337.

Charlotte Douglas International Airport, 5501 Josh Birmingham Parkway, Charlotte, NC 28208.

Direct questions or to arrange an appointment to review the documents to the individual named above under the heading, FOR FURTHER INFORMATION CONTACT.

Issued in Memphis, TN, on May 11, 2016.
Phillip J. Braden,
Manager, Memphis Airports District Office.

[FR Doc. 2016-11953 Filed 5-19-16; 8:45 am]

BILLING CODE 4910-13-P